OFFICE OF MANAGEMENT AND BUDGET

Revisions of Rescissions Proposals Pursuant to the Congressional Budget and Impoundment Control Act of 1974

AGENCY: Executive Office of the President, Office of Management and Budget.

ACTION: Notice of revisions to rescissions proposed pursuant to the Congressional Budget and Impoundment Control Act of 1974.

SUMMARY: Pursuant to the Congressional Budget and Impoundment Control Act of 1974, OMB is issuing a supplementary special message from the President to proposals that were previously transmitted to the Congress on May 8, 2018, of rescissions under section 1012 of that Act. The supplementary special message was transmitted to the Congress for consideration on June 5, 2018. The supplementary special message reports the withdrawal of four proposals and the revision of six other rescission proposals. The withdrawals are for the Federal Highway Administration Miscellaneous Appropriations and Miscellaneous Highway Trust Funds accounts of the Department of Transportation, the Environmental Programs and Management account of the Environmental Protection Agency, and the International Disaster Assistance account of the U.S. Agency for International Development. The six revised rescissions, totaling $896 million, affect the programs at the Departments of Agriculture, Housing and Urban Development, Labor, and the Treasury, as well as the Corporation for National and Community Service.

DATES: Release Date: June 5, 2018.

ADDRESSES: The rescissions proposal package is available on-line on the OMB website at: https://www.whitehouse.gov/omb/budget-rescissions-deferrals/.

FOR FURTHER INFORMATION CONTACT: Jessica Andreasen, 6001 New Executive Office Building, Washington, DC 20503, E-mail address: jandreasen@omb.eop.gov, telephone number: (202) 395-3645. Because of delays in the receipt of regular mail related to security screening, respondents are encouraged to use electronic communications.

John Mulvaney,
Director.

TO THE CONGRESS OF THE UNITED STATES:

In accordance with section 1014(c) of the Congressional Budget and Impoundment Control Act of 1974 (2 U.S.C. 685(c)), I am withdrawing four previously proposed rescissions and reporting revisions to six rescissions previously transmitted to the Congress.

The withdrawals are for the Federal Highway Administration Miscellaneous Appropriations and Miscellaneous Highway Trust Funds accounts of the Department of Transportation, the Environmental Programs and Management account of the Environmental Protection Agency, and the International Disaster Assistance account of the United States Agency for International Development. The six revised rescissions, totaling $896 million, affect the programs of the Departments of Agriculture, Housing and Urban Development, Labor, and the Treasury, as well as the Corporation for National and Community Service.

The details of the rescission withdrawals and each revised rescission are contained in the attached reports.

Donald J. Trump

THE WHITE HOUSE,

June 5, 2018.

RESCISSION PROPOSAL NO. R18-2A

SUPPLEMENTARY REPORT: Report Pursuant to Section 1014(c) of the Congressional Budget and Impoundment Control Act of 1974 (2 U.S.C. 685(c))

This report updates Rescission proposal no. R18-2, which was transmitted to the Congress on May 8, 2018.

This revision decreases by $1 the amount included in paragraph (1) of the appropriations language due to a rounding error, and corrects the reference in paragraph (1) of the appropriations language from the Agricultural Act of 2014 to the Food Security Act of 1985. This revision does not change the total amount of $499,507,921 proposed for rescission.

PROPOSED RESCISSION OF BUDGET AUTHORITY: Report Pursuant to Section 1012 of the Congressional Budget and Impoundment Control Act of 1974 (2 U.S.C. 683)

Agency: DEPARTMENT OF AGRICULTURE

Bureau: Natural Resources Conservation Service

Account:Farm Security and Rural Investment Programs (012-1004/X)

Amount proposed for rescission: $499,507,921

Proposed rescission appropriations language:

* Of the unobligated balances identified by the Treasury Appropriation Fund Symbol 12X1004, the following amounts are permanently rescinded: (1) $143,854,263 of amounts made available in section 1241(a)(5) of the Food Safety Act of 1985 (16 U.S.C. 3841(a)(5)); (2) $146,650,991 of amounts made available in section 2701(d) of the Food, Conservation, and Energy Act of 2008 (Public Law 110-246); (3) $33,261,788 of amounts made available in section 2701(e) of the Food, Conservation, and Energy Act of 2008 (Public Law 110-246); (4) $12,960,988 of amounts made available in section 2701(g) of the Food, Conservation, and Energy Act of 2008 (Public Law 110-246); (5) $7,447,193 of amounts made available in section 2510 of the Food, Conservation, and Energy Act of 2008 (Public Law 110-246); and (6) $155,332,698 of amounts made available from the Commodity Credit Corporation to carry out the wetlands reserve program.

* Revised from previous report.

Justification:

This proposal would rescind $356 million in unobligated balances of conservation programs that were not extended in the Agricultural Act of 2014, and $144 million in unobligated balances of the Environmental Quality Incentive Program (EQIP) from FY 2014 through FY 2017. There were a total of $1.5 billion in balances available in these programs on October 1, 2017. EQIP provides farmers and ranchers with financial cost-share and technical assistance to implement conservation practices on working agricultural land. These funds are from unobligated balances of expired programs or from prior years and are in excess of amounts needed to carry out the programs in FY 2018. Enacting the rescission would have limited programmatic impact.

RESCISSION PROPOSAL NO. R18-3A

SUPPLEMENTARY REPORT: Report Pursuant to Section 1014(c) of the Congressional Budget and Impoundment Control Act of 1974 (2 U.S.C. 685(c))

This report updates Rescission proposal no. R18-3, which was transmitted to the Congress on May 8, 2018.

This revision decreases the proposed rescission amount by $107,482,457 resulting in a revised rescission total of $50,000,000 in the Watershed and Flood Prevention Operations account of the Natural Resources Conservation Service, Department of Agriculture. This revision eliminates the proposed rescission of funding appropriated as part of the Federal Government's response to aid in recovery efforts following Hurricane Sandy.

PROPOSED RESCISSION OF BUDGET AUTHORITY: Report Pursuant to Section 1012 of the Congressional Budget and Impoundment Control Act of 1974 (2 U.S.C. 683)

Agency: DEPARTMENT OF AGRICULTURE

Bureau: Natural Resources Conservation Service

Account: Watershed and Flood Prevention Operations (012-1072/X)

* Amount proposed for rescission: $50,000,000

* Revised from previous report.

Proposed rescission appropriations language:

* Of the unobligated balances identified in the Treasury Appropriation Fund Symbol 12X1072, $50,000,000 of amounts made available under the “Watershed and Flood Prevention Operations” heading in the Consolidated Appropriations Act, 2017 (Public Law 115-31) are rescinded.

* Revised from previous report.

Justification:

* This proposal would rescind $50 million in prior year balances from the Department of Agriculture's Watershed and Flood Prevention Operations program, of which $378 million were available in the overall account on October 1, 2017. This program conducts surveys and investigations, engineering operations, works of improvement, and changes in use of land. These funds are in excess of amounts needed to carry out the program in FY 2018. Enacting the rescission would have a minimal impact on the program as it is fully funded through the 2018 Consolidated Appropriations Act. Enacting the rescission would have limited programmatic impact.

* Revised from previous report.

RESCISSION PROPOSAL NO. R18-21A

SUPPLEMENTARY REPORT: Report Pursuant to Section 1014(c) of the Congressional Budget and Impoundment Control Act of 1974 (2 U.S.C. 685(c))

This report updates Rescission proposal no. R18-21, which was transmitted to the Congress on May 8, 2018.

This revision decreases the proposed rescission amount by $2,071,115 resulting in a revised rescission total of $31,980,121 in the Public Housing Capital Fund, Department of Housing and Urban Development. This decrease reflects the actual amount available for rescission.

PROPOSED RESCISSION OF BUDGET AUTHORITY: Report Pursuant to Section 1012 of the Congressional Budget and Impoundment Control Act of 1974 (2 U.S.C. 683)

Agency: DEPARTMENT OF HOUSING AND URBAN DEVELOPMENT

Bureau: Public and Indian Housing Programs

Account: Public Housing Capital Fund (086-0304 2017/2020)

* Amount proposed for rescission: $31,980,121

* Revised from previous report.

Proposed rescission appropriations language:

* Of the unobligated balances available under this heading from the Consolidated Appropriations Act, 2017 (Public Law 115-31), $31,980,121 are rescinded.

Justification:

* This proposal would rescind $32 million in prior year balances of which there were $118 million available on October 1, 2017. The Capital Fund largely provides formula modernization grants to public housing authorities to address the capital repair needs in about one million units of public housing, in addition to set-asides for resident self-sufficiency programs and other programmatic needs. The proposed rescission would reduce budget authority that is inconsistent with the President's policies. Enacting the rescission would reduce prior year balances available for capital repair needs, emergency repairs including safety and security measures, physical inspections, administrative and judicial receiverships, Resident Opportunity and Self-Sufficiency (ROSS) grants, and eliminate the FY 2017 competitive Jobs-Plus grants. Competitive grants to reduce lead-based paint hazards in public housing would continue to be funded from amounts available. Amounts appropriated in FY 2018 for the Public Housing Capital Fund could be used for some of these activities.

* Revised from previous report.

RESCISSION PROPOSAL NO. R18-24A

SUPPLEMENTARY REPORT: Report Pursuant to Section 1014(c) of the Congressional Budget and Impoundment Control Act of 1974 (2 U.S.C. 685(c))

This report updates Rescission proposal no. R18-24, which was transmitted to the Congress on May 8, 2018.

This revision corrects the account name and number for the proposal in the Training and Employment Services, Department of Labor (016-0174/X) account. The correct name is Training and Employment Services, Recovery Act and the correct account number is 016-0184/X. In addition, the Justification has been revised to eliminate an incorrect reference to a child account.

PROPOSED RESCISSION OF BUDGET AUTHORITY: Report Pursuant to Section 1012 of the Congressional Budget and Impoundment Control Act of 1974 (2 U.S.C. 683)

Agency: DEPARTMENT OF LABOR

Bureau: Employment and Training Administration

* Account: Training and Employment Services, Recovery Act (016-0184/X)

* Revised from previous report.

Amount proposed for rescission: $22,913,265

Proposed rescission appropriations language:

Any unobligated balances of amounts made available in section 1899K(b) of division B of the American Recovery and Reinvestment Act of 2009 (Public Law 111-5) are rescinded.

Justification:

* This proposal would rescind $23 million in remaining balances for National Emergency Grants (NEGs) authorized under the American Recovery and Reinvestment Act. These NEGs were authorized to help States implement the Health Coverage Tax Credit (HCTC) for Trade Adjustment Assistance recipients, both helping States establish the systems and procedures needed to make healthcare benefits available and providing assistance and support services to eligible individuals waiting to receive payments through the HCTC. The initial HCTC authorization expired on January 1, 2014, but was reinstated in 2015. Since the HCTC program was reinstated, the Department of Labor has only distributed $1.4 million in Health NEGs. Enacting this rescission would be unlikely to have a programmatic impact since the Department does not have plans for the remaining funds. The proposed rescission would have no effect on outlays.

* Revised from previous report.

RESCISSION PROPOSAL NO. R18-27

SUPPLEMENTARY REPORT: Report Pursuant to Section 1014(c) of the Congressional Budget and Impoundment Control Act of 1974 (2 U.S.C. 685(c))

This report updates Rescission proposal no. R18-27, which was transmitted to the Congress on May 8, 2018.

This report withdraws the proposed rescission of amounts originally provided as emergency funds for Ebola response in the International Disaster Assistance account of the U.S. Agency for International Development.

RESCISSION PROPOSAL NO. R18-28

SUPPLEMENTARY REPORT: Report Pursuant to Section 1014(c) of the Congressional Budget and Impoundment Control Act of 1974 (2 U.S.C. 685(c))

This report updates Rescission proposal no. R18-28, which was transmitted to the Congress on May 8, 2018.

This report withdraws the proposed rescission of amounts from the Miscellaneous Appropriations account of the Federal Highway Administration, Department of Transportation.

RESCISSION PROPOSAL NO. R18-30

SUPPLEMENTARY REPORT: Report Pursuant to Section 1014(c) of the Congressional Budget and Impoundment Control Act of 1974 (2 U.S.C. 685(c))

This report updates Rescission proposal no. R18-30, which was transmitted to the Congress on May 8, 2018.

This report withdraws the proposed rescission of amounts from the Miscellaneous Highway Trust Funds account of the Federal Highway Administration, Department of Transportation.

RESCISSION PROPOSAL NO. R18-35A

SUPPLEMENTARY REPORT: Report Pursuant to Section 1014(c) of the Congressional Budget and Impoundment Control Act of 1974 (2 U.S.C. 685(c))

This report updates Rescission proposal no. R18-35, which was transmitted to the Congress on May 8, 2018.

This revision decreases the proposed rescission amount by $9,564,496 resulting in a revised rescission total of $141,716,839 in the Capital Magnet Fund, Community Development Financial Institutions, Department of the Treasury. This decrease reflects the actual amount available for rescission.

PROPOSED RESCISSION OF BUDGET AUTHORITY: Report Pursuant to Section 1012 of the Congressional Budget and Impoundment Control Act of 1974 (2 U.S.C. 683)

Agency: DEPARTMENT OF THE TREASURY

Bureau: Departmental Offices

Account: Capital Magnet Fund, Community Development Financial Institutions (020-8524/X)

* Amount proposed for rescission: $141,716,839

Proposed rescission appropriations language:

* From amounts made available to the Capital Magnet Fund for fiscal year 2018 pursuant to sections 1337 and 1339 of the Housing and Economic Recovery Act of 2008 (12 U.S.C. 4567 and 4569) $141,716,839 are permanently rescinded.

Justification:

* This proposal would rescind $142 million in amounts made available under the Housing and Economic Recovery Act of 2008 (Public Law 110-289) for FY 2018, of which $142 million was available on May 1, 2018. The Capital Magnet Fund (CMF) is a competitive grant program that funds housing nonprofits and Community Development Financial Institutions to finance affordable housing activities, as well as related economic development activities and community service facilities. This proposed rescission of CMF balances, which were derived from assessments on Fannie Mae and Freddie Mac under permanent law, would reduce budget authority that is inconsistent with the President's policies, recognizing that State and local governments and the private sector have a greater role to play in addressing affordable housing needs. Enacting the rescission would reduce the funds available for grants under this program.

* Revised from previous report.

RESCISSION PROPOSAL NO. R18-36

SUPPLEMENTARY REPORT: Report Pursuant to Section 1014(c) of the Congressional Budget and Impoundment Control Act of 1974 (2 U.S.C. 685(c))

This report updates Rescission proposal no. R18-36, which was transmitted to the Congress on May 8, 2018.

This report withdraws the proposed rescission of amounts from the Environmental Programs and Management account of the Environmental Protection Agency.

RESCISSION PROPOSAL NO. R18-37A

SUPPLEMENTARY REPORT: Report Pursuant to Section 1014(c) of the Congressional Budget and Impoundment Control Act of 1974 (2 U.S.C. 685(c))

This report updates Rescission proposal no. R18-37, which was transmitted to the Congress on May 8, 2018.

This revision corrects the account name and number for the proposal in the Gifts and Contributions, Corporation for National and Community Service (485-8981/X) account. The correct name is National Service Trust and the correct account number is 485-8267/X.

PROPOSED RESCISSION OF BUDGET AUTHORITY: Report Pursuant to Section 1012 of the Congressional Budget and Impoundment Control Act of 1974 (2 U.S.C. 683)

Agency: CORPORATION FOR NATIONAL AND COMMUNITY SERVICE

Bureau: Corporation for National and Community Service

* Account: National Service Trust (485-8267/X)

* Revised from previous report.

Amount proposed for rescission: $150,000,000

Proposed rescission appropriations language:

Of the unobligated balances available in the “National Service Trust” established in section 102 of the National and Community Service Trust Act of 1993, $150,000,000 are permanently rescinded.

Justification:

This proposal would rescind $150 million in prior year balances from the National Service Trust, of which there were $205 million available on October 1, 2017. The National Service Trust provides funds for educational awards to eligible AmeriCorps volunteers who have completed their terms of service. The available balances in the Trust are in excess of amounts needed to cover educational awards in FY 2018. This rescission would not impact the agency's operations. This rescission would have no effect on outlays.

[FR Doc. 2018-12486 Filed 6-8-18; 8:45 am]

BILLING CODE 3110-01-P